DEPARTMENT OF THE INTERIOR

Bureau of Land Management

[OR-958-6333-ET; GP0-0329; OR-55645]

Proposed Withdrawal and Opportunity for Public Meeting; Oregon

AGENCY: Bureau of Land Management, Interior.

ACTION: Notice.

SUMMARY: The Bureau of Land Management proposes to modify Public Land Order No. 7215 (PLO). The petition/application would withdraw approximately 173.80 acres of public lands from location and entry under the mining laws, but not the mineral leasing laws, for the remaining period of the PLO which expires on September 10, 2046, to protect wildlife habitat, wetlands, recreational values and portions of lands identified for future community expansion.

EFFECTIVE DATE: Comments and requests for a public meeting must be received by September 11, 2000.

ADDRESS: Comments and meetings requests should be sent to the Oregon/Washington State Director, BLM, P.O. Box 2965, Portland, Oregon 97208-2965.

FOR FURTHER INFORMATION CONTACT: Charles R. Roy, BLM Oregon/Washington State Office, 503-952-6189.

SUPPLEMENTARY INFORMATION: On (insert date signed), a petition was approved allowing the Bureau of Land Management to file an application to withdraw the following described public lands and non-Federal lands from location and entry under the United States mining laws (30 U.S.C. Ch. 2 (1994)), but not from leasing under the mineral leasing laws, subject to valid existing rights:

Willamette Meridian

T. 22 S., R. 13 W.,

Sec. 13, lot 1, W½SW¼NW¼, W½E½SW¼NW¼.

The area described above contains 68.80 acres in Douglas County.

T. 26 S., R. 14 W.,

Sec. 2, fractional lot 1, fractional SW¼NW¼;

Sec. 3, lot 1,2, and SE¼NE¼.

The area described above contains 102.70 acres in Coos County.

T. 35 S., R. 14 W.,

Sec. 18, lot 1.

The area described above contains 2.30 acres in Curry County.

The areas described aggregate 173.80 acres in Douglas, Coos, and Curry Counties.

The purpose of the proposed withdrawal would be to protect the wildlife habitat, wetlands, and recreational values of the area, portions of which may be needed for community expansion. It also assures the lands remain in public ownership until their disposal is determined to be in the public interest.

For a period of 90 days from the date of publication of this notice, all persons who wish to submit comments, suggestions, or objections in connection with the proposed withdrawal may present their views in writing to the State Director at the address indicated above.

Notice is hereby given that an opportunity for a public meeting is afforded in connection with the proposed withdrawal. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

For a period of 2 years from the date of publication of the original notice (May 14, 1998), the lands will be segregated as specified above unless the application is denied or canceled or the withdrawal is approved prior to that date. The temporary land uses which may be permitted during this segregative period include licenses, permits, rights-of-way, and disposal of vegetative resources other than under the mining laws.

Dated: August 3, 2000.
Sherrie L. Reid,
Acting, Chief Branch of Realty and Records Services.

[FR Doc. 00-20235 Filed 8-9-00; 8:45 am]

BILLING CODE 4310-33-P